FEDERAL MARITIME COMMISSION

Notice of Agreement Filed

The Commission hereby gives notice of the filing of the following agreement under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 200860-004.

Title: Fourth Amendment to Lease and Operating Agreement between PRPA and Dependable Distribution Services Inc. for Pier 84 South.

Parties: Philadelphia Regional Port Authority and Dependable Distribution Services Inc.

Filing Party: Paul D. Coleman, Esq.; Hoppel, Mayer & Coleman; 1050 Connecticut Avenue, NW., Tenth Floor; Washington, DC 20036.

Synopsis: The amendment settles past rent issues under the lease and extends the lease until April 30, 2012. It also allows for a possible third renewal term, establishes base rents and tonnage and dockage fees for future years, and amends the insurance terms.

By Order of the Federal Maritime Commission.
Dated: February 21, 2008.
Karen V. Gregory,
Assistant Secretary.

[FR Doc. E8-3675 Filed 2-26-08; 8:45 am]

BILLING CODE 6730-01-P